DEPARTMENT OF HEALTH AND HUMAN SERVICES

National Institutes of Health

National Cancer Institute; Amended Notice of Meeting

Notice is hereby given of a change in the meeting of the National Cancer Institute Board of Scientific advisors, March 3, 2008, 8 a.m. to March 4, 2008 12 p.m., National Institutes of Health, Building 31, 31 Center Drive, 6th Floor Conference Room 10, Bethesda, MD 20892 which was published in the Federal Register on January 17, 2008, 73 FR 3257-3258.

This notice is being amended to add the BSA TARGET Ad Hoc Subcommittee Meeting on March 4, 2008 from 12 p.m. to 3:30 pm., at NIH, Building 31, 6th Floor, Conference Room 7. The meeting is open to the public.

Dated: February 6, 2008.
Jennifer Spaeth,
Director, Office of Federal Advisory Committee Policy.

[FR Doc. 08-632 Filed 2-12-08; 8:45 am]

BILLING CODE 4140-01-M